DEPARTMENT OF COMMERCE

National Oceanic and Atmospheric Administration

RIN: 0648-XX90

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Research Set-Aside Committee (RSA), its Ecosystems and Ocean Planning Committee, its Squid, Mackerel, and Butterfish (SMB) Committee, and its Executive Committee will hold public meetings.

DATES: The meetings will be held Monday, August 16, 2010 through Thursday, August 19, 2010. See SUPPLEMENTARY INFORMATION for specific dates and times of meetings.

ADDRESSES: The meetings will be held at the Holiday Inn, Historic District, 400 Arch Street, Philadelphia, PA 19106; telephone: (215) 923-8660.

Council address: Mid-Atlantic Fishery Management Council, 800 N. State St., Suite 201, Dover, DE 19901-3910; telephone: (302) 674-2331.

FOR FURTHER INFORMATION CONTACT: Dr. Christopher Moore, Executive Director, Mid-Atlantic Fishery Management Council; telephone: (302) 674-2331 ext. 255.

SUPPLEMENTARY INFORMATION:

Monday, August 16, 2010

12:30 p.m. to 2 p.m. - The RSA Committee will meet.

2 p.m. to 3:30 p.m. - The Ecosystems and Ocean Planning Committee will meet.

3:30 p.m. to 5 p.m. - The Squid, Mackerel, and Butterfish Committee will meet.

Tuesday, August 17, 2010

8 a.m. - The Council will convene.

8 a.m. to 8:15 a.m. - New and reappointed Council members will be sworn into office.

8:15 a.m. to 4:30 p.m. - The Council will discuss the Omnibus ACL/AM Amendment (Annual Catch Limits / Accountability Measures).

4:30 p.m. to 5:30 p.m. - The Executive Committee will meet.

Wednesday, August 18, 2010

8 a.m. - The Council will convene.

8 a.m. to 5 p.m. - The Council will finalize scup, black sea bass, summer flounder, and bluefish management measures for 2011 in conjunction with the Atlantic States Marine Fisheries Commission's (ASMFC) Summer Flounder, Scup, Black Sea Bass, and Bluefish Boards.

5 p.m. to 5:30 p.m. - The Council will receive a presentation by the National Policy Advisor for Recreational Fisheries, Office of the Assistant Administrator NOAA Fisheries.

Thursday, August 19, 2010

8 a.m. - The Council will convene.

8 a.m. to 8:30 a.m. - The Council will receive a report on the 50th Stock Assessment Review Committee.

8:30 a.m. to 9 a.m. - The Council will receive a Marine Recreational Information Program (MRIP) update.

9 a.m. to 10 a.m. - The Council will receive a presentation on the General Counsel's Enforcement and Litigation Group regarding purposes, practices, and policies.

10 a.m. to 10:45 a.m. - The Council will receive a presentation on the Final Recommendations on the Interagency Ocean Policy Task Force.

10:45 a.m. to 1:30 p.m. - The Council will convene to conduct its regular Business Session, receive Council Liaison Reports, Organizational Reports, Executive Director Reports, receive a report on the status of MAFMC's FMPs, Committee Reports, and any continuing and/or new business.

Agenda items by day for the Council's Committees and the Council itself are:

On Monday, August 16 - The RSA Committee will the review their 2012 research priorities list and their draft mission statement. The Ecosystems and Ocean Planning Committee will receive a presentation on activities of the Northeast Fishery Science Center's (NEFSC) Ecosystems Branch by Dr. Michael Fogerty. The SMB Committee will review Amendment 14 scoping comments and refine its goals and receive an update on butterfish cap control mechanism affecting the Loligo fishery from the Northeast Regional Office (NERO) officials.

On Tuesday, August 17 - new and reappointed Council members will be sworn into office. The Council will review and discuss management alternatives to address ABCs, ACLs, and AMs for all FMP species and approve and adopt the Omnibus Amendment for Secretarial submission. The Executive Committee will review the Ricks E Savage Award criteria and nomination process, excessive share project update, Scientific and Statistical Committee (SSC) membership, and Visioning Project update.

On Wednesday, August 18 - The Council in conjunction with the Atlantic States Marine Fisheries Commission's (ASMFC) Summer Flounder, Scup, and Black Sea Bass Board will review the Scientific and Statistical Committee (SSC) and the associated Monitoring Committee's specification recommendations for 2011 and adopt 2011 commercial and recreational harvest levels and commercial management measures for scup, black sea bass, and summer flounder. The Council in conjunction with the ASMFC's Bluefish Board will review the SSC and the Bluefish Monitoring Committees' specification recommendations regarding the 2011 harvest levels and associated management measures and adopt recommendations for harvest levels and associated management measures for 2011. The Council will receive a presentation by Russell Dunn, National Policy Advisor for Recreational Fisheries, Office of the Assistant Administrator NOAA Fisheries.

On Thursday, August 19 - the Council will receive a report by Dr. James Weinberg (NMFS NEFSC) on the 50th Stock Assessment Review Committee. The Council will receive an update on the MRIP provided by Gordon Colvin. The Council will receive a presentation by Mitch MacDonald on Office of General Counsel's Enforcement and Litigation Group regarding purposes, practices, and policies. The Council will receive a presentation by Samuel Rauch on the final recommendations of the Interagency Ocean Policy Task Force. The Council will hold its regular Business Session to approve the June 2010 minutes and address any outstanding actions from the June 2010 meeting, receive Liaison Reports, Organizational Reports, the Executive Director's Report, an update on the status of the Council's FMPs, Committee Reports, and any continuing and new business to include addressing a request for initiation of an Anadromous FMP.

Special Accommodations

These meetings are physically accessible to people with disabilities. Requests for sign language interpretation or other auxiliary aid should be directed to M. Jan Saunders, (302) 526-5251), at least 5 days prior to the meeting date.

Dated: July 23, 2010.
Tracey L. Thompson,
Acting Director, Office of Sustainable Fisheries, National Marine Fisheries Service.

[FR Doc. 2010-18489 Filed 7-27-10; 8:45 am]

BILLING CODE 3510-22-S